FEDERAL MARITIME COMMISSION

Ocean Transportation Intermediary License; Reissuance

Notice is hereby given that the following Ocean Transportation Intermediary license has been reissued by the Federal Maritime Commission pursuant to section 19 of the Shipping Act of 1984, as amended by the Ocean Shipping Reform Act of 1998 (46 U.S.C. app. 1718) and the regulations of the Commission pertaining to the licensing of Ocean Transportation Intermediaries, 46 CFR part 515.

License No.: 003957F

Name/Address: Maramara, Inc., 6 Self Boulevard, Carteret, NJ 07008

Date Reissued: April 22, 2005.

Sandra L. Kusumoto,
Director, Bureau of Certification and Licensing.

[FR Doc. 05-11403 Filed 6-7-05; 8:45 am]

BILLING CODE 6730-01-P